DEPARTMENT OF THE INTERIOR

Bureau of Ocean Energy Management, Regulation and Enforcement

[Docket No. BOEM-2011-0012]

Outer Continental Shelf (OCS) Renewable Energy Program Interim Policy Leasing for Marine Hydrokinetic Technology Testing Offshore Florida

AGENCY: Bureau of Ocean Energy Management, Regulation and Enforcement (BOEMRE), Interior.

ACTION: Notice of Intent (NOI) to Prepare an Environmental Assessment (EA).

SUMMARY: This notice is being published as an initial step for the purpose of involving Federal agencies, states, tribes, local government, and the public in the leasing decision for an offshore technology testing facility located on the OCS, in accordance with the Department of the Interior and the Council on Environmental Quality (CEQ) regulations implementing the provisions of the National Environmental Policy Act (NEPA) of 1969 as amended (42 U.S.C. 4321 et seq.). On November 6, 2007, the Minerals Management Service (MMS), now BOEMRE, announced an interim policy for authorizing the issuance of leases for the installation of offshore data collection and technology testing facilities on the OCS (72 FR 62673). A lease application has been submitted pursuant to the interim policy, initiating the need for an EA.

On June 11, 2010 Florida Atlantic University's (FAU) Southeast National Marine Renewable Energy Center (SNMREC) submitted an application to lease three OCS blocks, approximately nine to 15 nautical miles offshore of Fort Lauderdale, Florida, under its original nomination submitted on November 8, 2007. These three blocks are located on the Atlantic OCS in the Official Protraction Diagram NG 17-06 numbered 7003, 7053, and 7054. The proposed lease area ranges from a depth of 262 meters (m) in Block 7053 to 366 m in the southern half of Block 7054. This project application was amended on February 10, 2011, and describes data collection and technology testing activities to be conducted on the proposed lease. FAU SNMREC intends to deploy a single-anchor mooring, with a mooring and telemetry buoy (MTB) (similar to the Navy Oceanographic Meteorological Automatic Device (NOMAD) weather buoys) for the purpose of testing, for limited periods, equipment designed to use the Florida current to generate electricity on the proposed leasehold. The proposed MTB would act as both a sensor and measurement platform and mooring point for a platform or vessel which can deploy small-scale ocean current devices. The device(s) to be deployed would be limited to 100-kilowatt (kW) power extraction and seven-meter diameter rotor(s). Initially, it is proposed to deploy an experimental demonstration device with 20 kW maximum power and a three-meter rotor diameter from a vessel moored to the MTB.

BOEMRE intends to prepare an EA for the purpose of considering the environmental consequences associated with issuing an interim policy lease to FAU SNMREC, which will include impacts that may result from the installation of an MTB, deployment of small-scale ocean current devices, and operations of a deployment vessel on the potential leasehold. The EA will consider multiple environmental issues, including impacts to benthic habitats, sea turtles, pelagic fishes, marine mammals, and existing human uses. At a minimum, the alternatives that will be considered are no action (i.e., no issuance of a lease), and the issuance of a lease and approval of certain technology testing activities within the lease area, such as deployment of technology demonstration devices, single anchor moorings, and an MTB.

With this NOI, BOEMRE is requesting comments and input from Federal, state, and local government agencies, tribal governments, and other interested parties, which may assist BOEMRE in identifying the important environmental issues and any additional alternatives that should be considered in the EA. Input is also requested regarding measures (e.g., limitations on activities based on technology, siting, or timing) that would mitigate impacts to environmental resources and socioeconomic conditions that could result from leasing and the technology testing activities in the lease area. Consultation with other Federal agencies, tribal governments, and affected states will be carried out during the EA process and will be completed before a final decision is made on whether, or under what circumstances to issue a lease.

Authority: This NOI to prepare an EA is published pursuant to 43 CFR 46.305.

FOR FURTHER INFORMATION CONTACT: Michelle Morin, BOEMRE Office of Offshore Alternative Energy Programs, 381 Elden Street, MS 4090, Herndon, Virginia 20170-4817, (703) 787-1340 or michelle.morin@boemre.gov.

SUPPLEMENTARY INFORMATION:

1. Interim Policy

Subsection 8(p)(1)(C) of the OCS Lands Act (43 U.S.C. 1337(p)(1)(3)), which was added by section 388 of the Energy Policy Act of 2005 (EPAct), gave the Secretary of the Interior the authority to issue leases, easements and rights-of-way on the OCS for alternative energy activities. This authority has been delegated to BOEMRE. In a Request for Information and Nominations published on November 6, 2007, in the Federal Register (72 FR 62673) BOEMRE announced that it had established an interim policy under which it would issue limited leases authorizing alternative energy resource assessment, data collection, and technology testing activities on the OCS and that it was accepting nominations for limited leases to conduct such activities. Limited leases issued under the interim policy for energy resource assessment data collection and technology testing activities have a term of 5 years, and do not authorize the production or transmission of energy. In response to the November 6, 2007 notice, BOEMRE received more than 40 nominations proposing areas for limited leases on the OCS off the Pacific and Atlantic Coasts.

BOEMRE reviewed in detail all nominations received and, on April 18, 2008, identified 16 proposed lease areas for priority consideration based on factors such as the technological complexity of the project proposed, timing needs, competing OCS space-use issues, and relevant state-supported renewable energy activities and initiatives (73 FR 21152). BOEMRE also took into consideration the importance of supporting the advancement of activities related to the development of each of the renewable energy resource types that would be studied in the proposals—wind, current, and wave. Of the 16 areas, BOEMRE identified four proposed areas offshore Florida as priority areas for the testing of ocean current technology and the collection of resource data.

In the April 18, 2008 notice, BOEMRE also solicited from interested parties expressions of competitive interest in leasing any of these nominated areas. See 43 U.S.C. 1337(p)(3). The notice also invited comments and solicited information from the public regarding the suitability of these areas for leasing and the environmental and socioeconomic consequences that may be associated with issuing research leases in these areas. BOEMRE received no indications of competitive interest in acquiring leases within these four areas offshore Florida, which include the three blocks identified in FAU SNMREC's most recent application. As a result, BOEMRE intends to make a final decision on whether to proceed with the issuance of a lease noncompetitively, once the required environmental review, which is the subject of this NOI, is completed.

Interim policy leases will be governed by the terms outlined in the interim policy lease and stipulations published in the Federal Register (73 FR 21363) on April 21, 2008. More information about the interim policy can be found at: http://www.boemre.gov/offshore/RenewableEnergy/RegulatoryInformation.htm#Interim_Policy.

2. Cooperating Agencies

BOEMRE invites other Federal agencies and state, tribal, and local governments to consider becoming cooperating agencies in the preparation of the EA. CEQ regulations implementing the procedural provisions of NEPA define cooperating agencies as those with “jurisdiction by law or special expertise” (40 CFR 1508.5). Potential cooperating agencies should consider their authority and capacity to assume the responsibilities of a cooperating agency and remember that an agency's role in the environmental analysis neither enlarges nor diminishes the final decision-making authority of any other agency involved in the NEPA process.

Upon request, BOEMRE will provide potential cooperating agencies with a draft Memorandum of Agreement that includes a schedule with critical action dates and milestones, mutual responsibilities, designated points of contact, and expectations for handling pre-decisional information. Agencies should also consider the “Factors for Determining Whether to Invite, Decline, or End Cooperating Agency Status” in Attachment 1 to CEQ's January 30, 2002, Memorandum for the Heads of Federal Agencies: Cooperating Agencies in Implementing the Procedural Requirements of the NEPA. A copy of this document is available at: http://ceq.hss.doe.gov/nepa/regs/cooperating/cooperatingagenciesmemorandum.html and http://ceq.hss.doe.gov/nepa/regs/cooperating/cooperatingagencymemofactors.html.

BOEMRE, as the lead agency, will not provide financial assistance to cooperating agencies. Even if an organization is not a cooperating agency, opportunities will exist to provide information and comments to BOEMRE during the normal public input phases of the NEPA/EA process.

3. Comments

Federal, state, local government agencies, tribal governments, and other interested parties are requested to send their written comments regarding important environmental issues and the identification of reasonable alternatives related to the proposed issuance of a limited lease to FAU SNMREC on which it intends to conduct data collection and technology testing activities in one of the following ways:

1. Electronically: http://www.regulations.gov. In the entry titled “Enter Keyword or ID,” enter “BOEM-2011-0012,” then click “Search”. Follow the instructions to submit public comments and view supporting and related materials available for this document.

2. In written form, delivered by hand or by mail, enclosed in an envelope labeled “Comments on OCS Renewable Energy Program Interim Policy Lease for FAU SNMREC” to Program Manager, Office of Offshore Alternative Energy Programs (MS 4090), Bureau of Ocean Energy Management, Regulation and Enforcement, 381 Elden Street, Herndon, Virginia 20170.

Comments should be submitted no later than June 23, 2011.

Dated: May 18, 2011.
L. Renee Orr,
Acting Associate Director for Offshore Energy and Minerals Management.

[FR Doc. 2011-12724 Filed 5-23-11; 8:45 am]

BILLING CODE 4310-MR-P